FEDERAL DEPOSIT INSURANCE CORPORATION

Agency Information Collection Activities: Proposed Information Collection; FDIC Small Business Lending Survey; Comment Request

AGENCY: Federal Deposit Insurance Corporation (FDIC).

ACTION: Notice and request for comment.

SUMMARY: The FDIC, as part of its continuing effort to reduce paperwork and respondent burden and as required by the Paperwork Reduction Act of 1995, invites the general public and other Federal agencies to comment on a proposed new collection of information, a Small Business Lending Survey of banks that is proposed to be fielded in May 2016.

DATES: Comments must be submitted on or before December 7, 2015.

ADDRESSES: Interested parties are invited to submit written comments by any of the following methods. All comments should reference “FDIC Small Business Lending Survey”:

• http://www.FDIC.gov/regulations/laws/federal/.

• Email: comments@fdic.gov. Include the name of the collection in the subject line of the message.

• Mail: Gary Kuiper (202.898.3877), Counsel, Legal Division, Federal Deposit Insurance Corporation, 550 17th Street NW., Washington, DC 20429.

• Hand Delivery: Comments may be hand-delivered to the guard station at the rear of the 550 17th Street Building (located on F Street), on business days between 7:00 a.m. and 5:00 p.m.

FOR FURTHER INFORMATION CONTACT: Interested members of the public may obtain a copy of the survey and related instructions by clicking on the link for the FDIC Small Business Lending on the following Web page: http://www.fdic.gov/regulations/laws/federal/. Interested members of the public may also obtain additional information about the collection, including a paper copy of the proposed collection and related instructions, without charge, by contacting Gary Kuiper at the address identified above, or by calling 202.898.3877.

SUPPLEMENTARY INFORMATION:

The FDIC proposes to establish the following collection of information:

Title: FDIC Small Business Lending Survey.

OMB Number: New collection.

Frequency of Response: Once.

Affected Public: FDIC-insured depository institutions.

Estimated Number of Respondents: 2,000.

Average time per response: 4 hours per respondent.

Estimated Total Annual Burden: 4 hours × 2,000 respondents = 8,000 hours.

General Description of Collection

Small businesses are an important component of the U.S. economy. According to the Small Business Administration, small firms accounted for almost half of private-sector employment and 63 percent of net new jobs between mid-1993 and 2013.¹ Many small businesses have little or no direct access to capital markets and are thus reliant on bank financing. For banks, small business lending is an important way that they help meet their communities' needs, especially for the many banks that primarily focus on commercial rather than consumer lending.

ⁱ https://www.sba.gov/sites/default/files/FAQ_March_2014_0.pdf, accessed Sep 15, 2015.

Due to the importance of small businesses to the U.S. economy and the importance of bank lending to small businesses, the proposed FDIC Small Business Lending Survey, which surveys banks, will provide important data to complement existing sources of data on small business lending. The proposed survey data will not duplicate existing sources of data and will provide additional insight into many aspects of small business lending.

The FDIC Small Business Lending Survey, proposed to begin data collection in May 2016, is designed to yield heretofore unavailable nationally-representative estimates on the volume and details of small business loans extended by FDIC-insured banks. In addition, the survey will provide new information on banks' perceived competition and market area for small business lending. The survey will yield nationally representative estimates of small business lending by banks of several different asset size categories and with different levels of urban or rural presence.

In addition to the questions on small business lending, the new survey will include some questions related to consumer transaction accounts that are directly responsive to the mandate in Section 7 of the Federal Deposit Insurance Reform Conforming Amendments Act of 2005 (“Reform Act”) (Pub. L. 109-173), which calls for the FDIC to conduct ongoing surveys “on efforts by insured depository institutions to bring those individuals and families who have rarely, if ever, held a checking account, a savings account or other type of transaction or check cashing account at an insured depository institution (hereafter in this section referred to as the `unbanked') into the conventional finance system.” Section 7 of the Reform Act further instructs the FDIC to consider several factors in its conduct of the surveys, including: “what cultural, language and identification issues as well as transaction costs appear to most prevent `unbanked' individuals from establishing conventional accounts”.

The consumer account-focused questions are designed to provide a factual basis for examining identification issues and transaction costs related to establishing mainstream transaction accounts at banks. These consumer account-focused questions have been added to the Small Business Lending Survey in lieu of fielding a separate second survey to respond to the Congressional mandate. The consolidation of these efforts is expected to reduce the burden on banks relative to fielding two separate surveys.

Request for Comment

Comments are invited on: (a) Whether the collection of information is necessary for the proper performance of the FDIC's functions, including whether the information has practical utility; (b) the accuracy of the estimates of the burden of the information collection; (c) ways to enhance the quality, utility, and clarity of the information to be collected; and (d) ways to minimize the burden of the information collection on respondents, including through the use of automated collection techniques or other forms of information technology.

The FDIC will consider all comments to determine the extent to which the information collection should be modified prior to submission to OMB for review and approval. After the comment period closes, comments will be summarized and/or included in the FDIC's request to OMB for approval of the collection. All comments will become a matter of public record.

Dated at Washington, DC, this 2nd day of October, 2015.
Federal Deposit Insurance Corporation.
Robert E. Feldman,
Executive Secretary.

[FR Doc. 2015-25507 Filed 10-6-15; 8:45 am]

BILLING CODE 6714-01-P